DEPARTMENT OF HEALTH AND HUMAN SERVICES

Centers for Disease Control and Prevention

[Program Announcement 01131]

National Programs That Build the Capacity of Schools To Prevent Foodborne Illness Through Coordinated School Health Programs; Notice of Availability of Funds

A. Purpose

The Centers for Disease Control and Prevention (CDC) announces the availability of fiscal year (FY) 2001 funds for a cooperative agreement program for National Programs That Build the Capacity of Schools to Prevent Foodborne Illness and Other Important Health Problems Through Coordinated School Health Programs. This program addresses the “Healthy People 2010” focus areas of Educational and Community-Based Programs.

The purpose of this program is to develop a national program to build the capacity of state and local education and health agencies, and others to prevent foodborne illness and other important health problems as part of a coordinated school health program.

B. Eligible Applicants

Assistance will be provided to national organizations that are private health, education, or social service agencies (professional, or voluntary); qualify as a non-profit 501(c)(3) entity; have the capacity and experience to assist their local affiliates; and have affiliate offices or local, state, or regional membership constituencies in a minimum of ten states and territories.

National organizations that are funded currently by CDC/Division of Adolescent and School Health (DASH) under program announcements 99023, 97065, 00026, 00081, 00109, 00719, 98885, 99072, 00079 or 00618 are not eligible for this program announcement. A listing of CDC/DASH funded national organizations that are not eligible to apply is provided in Appendix I.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $168,000 is available in FY 2001 to fund one award. It is expected that the awards will begin on or about August 15, 2001, and will be made for a 12-month budget period within a project period of up to four years. Funding estimates may change.

Priority will be given to organizations whose direct constituencies are directors, administrators and managers of school food service programs. Affiliate offices and local, state, or regional membership constituencies may not apply in lieu of, or on behalf of, their parent national office.

Continuation awards within an approved project period will be made on the basis of satisfactory progress as evidenced by required reports and the availability of funds.

D. Program Requirements

In conducting activities to achieve the purpose of this program, the recipient shall be responsible for conducting activities under section 1 (Recipient Activities), and CDC will be responsible for conducting activities under section 2 (CDC Activities) as listed below:

1. Recipient Activities

a. Collaborate with constituents; state and local education, health, agriculture, and social service agencies; non-governmental partners; and federal government agencies to implement a national strategy to prevent foodborne illness as part of coordinated school health programs.

b. Establish specific, measurable, and realistic goals, objectives and evaluation measures to reduce and/or manage school foodborne illness outbreaks.

c. As a part of the National Food Safety Initiative, establish an operational plan that includes collaborating with federal and state agencies and others engaged in food safe schools program-related activities, and developing or using existing discipline-specific training materials that build the capacity of school food service personnel to implement the school food service component of a model coordinated school food safety schools program, and to integrate that component with other components.

d. Participate in quarterly meetings of the National Coalition for Food Safe Schools.

e. Developing or using existing discipline-specific training materials for accompanying a model coordinated school food safe schools program for constituents.

f. Disseminating programmatic information through appropriate methods, such as:

1. Sharing materials that would reduce school foodborne illness or manage an outbreak through a variety of mechanisms (e.g. clearinghouses, conferences and/or workshops, newsletters, annual progress reports, etc.);

2. Sharing project-related news and information with state and local education and health agencies, national organizations, and others through the Internet, other computer networks, the mail and at workshops and conferences.

g. Educating and enabling school food service managers, decision makers and others who are members of the national organizations to act individually and collectively to support locally determined programs to reduce/manage school foodborne illness outbreaks.

h. Educating and enabling families, media, businesses, and others in the community to act individually and collectively to support coordinated school health programs to reduce/manage school foodborne illness outbreaks.

i. Building the capacity of community agencies and parents to establish and/or maintain programs that reduce/manage school foodborne illness outbreaks;

j. Providing technical assistance and training to professionals and parents to use proven, effective strategies and programs to prevent behaviors that place elementary through college-aged young people at risk for foodborne illness.

k. Participating in national conferences to promote model food safe schools programs.

2. CDC Activities

a. Coordinate with national, state, and local education, health and social service agencies as well as other relevant organizations in planning and conducting national strategies designed to prevent foodborne illness through the development and implementation of a national food safe schools program.

b. Assist with programmatic consultation and guidance related to program planning, implementation, and evaluation; assessment of program objectives; and dissemination of successful strategies, experiences, and evaluation reports.

c. Participate in planning meetings with national, state, and local education agencies and other appropriate agencies to address issues and program activities related to improving coordinated school health programs; and strengthen the capacity of postsecondary institutions and youth-serving agencies to prevent foodborne illness through coordinated food safe schools programs.

d. Assist with the evaluation of program activities.

E. Application Content

Use the information in the Program Requirements, Other Requirements, and Evaluation Criteria sections to develop the application content. Your application will be evaluated on the criteria listed, so it is important to follow them in laying out your program plan. The narrative should be no more than twenty (20) double-spaced pages, printed on one side, with one-inch margins, and unreduced font.

1. Background (No More Than 4 Pages)

a. Describe your organization's current structure (mission, goals and its membership or affiliates and their geographic representation). Describe how that structure can support food safe schools programs that are part of a coordinated school health program, including the potential role of your organization's primary constituency in a food safe schools initiative. Identify current gaps in the existing structure and implementation of school-based food safety programs, and discuss how your constituency can enhance the state and local education agencies' ability to deliver an optimal food safe schools program.

b. Describe your organization's experience in assisting the state education, health and agriculture departments' current school food safety program. Include in your description, experience assisting these agencies' use of existing protocols, training, and educational materials available from the U.S. Department of Agriculture (USDA) and the Food and Drug Administration (FDA) related to food safety and foodborne illness outbreaks. Describe barriers within state and local education agencies to reporting foodborne illnesses and outbreaks and indicate how your organization and constituency can build that capacity.

c. Describe your organization's experience in developing and implementing policy related to food safety programs and reporting school-based foodborne outbreaks. Discuss potential limitations to existing policies and describe, if any, the need for new policies that address school food safety and the prevention of foodborne illness.

d. Describe your organization's experience in developing and implementing model policy, curricula, training programs, surveillance activities, and evaluation protocols. Describe your organization's experience providing technical assistance and training. Priority will be given to organizations whose direct constituencies are directors, administrators and managers of school food service programs.

2. Operational Plan (No More Than 8 Pages)

a. Provide long-term (four-year) goals and short-term (one-year) objectives for the proposed project that build the capacity of coordinated food safe schools programs nationwide. The objectives should be specific, time-phased, measurable, and realistic. The proposed objectives should compliment ongoing activities related to “From Farm to Table: A National Food Safety Initiative” (see the U.S. government food safety information gateway website http://www.foodsafety.gov for more information on activities related to the National Food Safety Initiative).

b. Submit a plan that proposes first year activities to build the capacity of your organization and others to support and/or implement a model food safe schools program designed to prevent foodborne illness in schools. Include a time-line for the completion of each component or major activity that describes who will do what by when. Examples of acceptable activities can include, but are not limited to the Recipient Activities described in section D Program Requirements.

3. Administration and Management (No More Than 2 Pages)

a. Describe how the proposed professional staff will contribute to the overall food safe schools program. Describe how the current or proposed placement of each staff will assure that program implementation among state education, health, and agriculture agencies, their affiliates, and partners is coordinated with your organization's constituents.

b. Demonstrate that existing or proposed professional staff have or will have the necessary background and qualifications for the proposed responsibilities. Indicate how your organization can ensure that for each professional working on the project, their position description requires the appropriate level of education and experience related to the level of responsibility and expected duties. A curriculum vitae (no more than two pages for each staff) should be included in an appendix to the application for existing staff who are assigned to this project.

c. In an appendix to the application, provide an organizational chart that identifies lines of communication, accountability, reporting, authority, and describes management and control systems within your organization.

4. Collaboration (No More Than 2 Pages)

a. Describe the organization's current collaboration with states' health, education, and agricultural departments. Describe your organization's collaboration with other federal agencies, national non-profit organizations, foundations, community-based groups, and others who have an interest in or whose mission includes food safety programs, whether their efforts are school-based or not. Discuss how your collaborative relationship can strengthen this project. Indicate who you propose to collaborate with to implement the proposed Operational Plan. Include letters of participation and support documenting these anticipated collaborations. In particular, describe how the proposed activities compliment or build on the existing food safety programs.

b. Describe collaborative activities or anticipated relationships with other national organizations who support coordinated school health programs. Include letters of participation and support documenting these anticipated collaborations. In particular, describe how your organization can compliment the activities of existing national organizations and how their expertise can support this proposed project.

5. Evaluation Plan (No More Than 2 Pages)

Describe plans to evaluate progress in meeting objectives and conducting activities during the budget period. Specify what data will be obtained and present a plan that includes how the data will be obtained, disseminated, and used to improve the program. Indicate in the plan who will do what and when.

6. Budget and Justification (No More Than 2 Pages)

Provide a detailed budget and line-item justification for all operating expenses that are consistent with proposed objectives and planned activities. The budget should include funds for travel to two CDC meetings during the budget year.

F. Submission and Deadline

Submit the original and two copies of PHS 5161-1 (OMB Number 0920-0428). Forms are available in the application kit and at the following Internet address: http://forms.psc.gov/

On or before June 15, 2001 submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks are not acceptable as proof of timely mailing).

Late: Applications which do not meet the criteria in 1. or 2. above will be returned to the applicant.

G. Evaluation Criteria

Each application will be evaluated individually against the following evaluation criteria by an independent review group appointed by CDC.

1. Background and Need (30 Points)

a. (10 points) The extent to which the applicant describes the current organizational structure, how that structure can support food safe schools programs, and identifies current gaps in the existing structure of education agencies that decreases the agencies' ability to deliver an optimal food safe schools program.

b. (5 points) The extent to which the applicant discusses barriers within education agencies to using existing resources that contribute to the prevention of foodborne illnesses and describes experience assisting state agencies' use of existing protocols, training, and educational materials.

c. (5 points) The extent to which the applicant describes experience in developing policy related to food safety programs and reporting school-based foodborne outbreaks, discusses gaps in existing policy and discusses a proposal for new policy.

d. (10 points) The extent to which the applicant describes experience in supporting, developing and implementing model policy, curricula, training programs, surveillance activities, and evaluation protocol and describes the organization's experience providing technical assistance and training. Priority will be given to organizations whose direct constituencies are directors, administrators and managers of school food service programs.

2. Operational Plan (30 Points)

a. (15 Points) The extent to which the applicant provides long-term (four-year) and short-term (one-year) objectives for the proposed project that build the capacity of food safe schools programs nationwide. The objectives must be specific, time-phased, measurable, and realistic. The proposed objectives should compliment ongoing activities related to “From Farm to Table: A National Food Safety Initiative” (see the U.S. government food safety information gateway website, http://www.foodsafety.gov, for more information on activities related to the National Food Safety Initiative).

b. (15 points) The extent to which the applicant submits a plan that builds the capacity of its constituents and others to assist state and local education agencies in establishing a model food safe schools program designed to prevent foodborne illness and includes a time-line for the completion of each component or major activity that describes who will do what by when. The extent to which the proposed activities are comparable to the identified Recipient Activities described in Section D Program Requirements.

3. Administration and Management (15 Points)

a. (5 points) The extent to which the applicant provides job descriptions for existing and proposed professional positions and describes how the proposed professional staff will contribute to the overall food safe schools program. The extent to which the applicant describes how the current or proposed placement of each staff will assure that program implementation is coordinated with the organization's constituents and partners.

b. (5 points) The extent to which the applicant demonstrates that existing or proposed staff have or will have the necessary background and qualifications for the proposed responsibilities. The extent to which the applicant provides a curriculum vitae for existing staff who are assigned to this project.

c. (5 points) The extent to which the applicant provides an organizational chart that identifies lines of communication, accountability, reporting, authority, and describes management and control systems within the organization and discusses how the proposed placement of the project in the organization will increase its likelihood of success.

4. Collaboration (20 Points)

a. (15 points) The extent to which the applicant describes current collaboration with health, education, and/or agricultural agencies, the organization's collaboration with other federal agencies, national non-profit organizations, foundations, community-based groups, and others who have an interest in or whose mission includes food safety programs, and discusses how the current collaborative relationships can compliment the proposed project. The extent to which the applicant indicates proposed collaborative relationships that will support the proposed operational plan and includes letters of participation and support documenting these anticipated collaborations especially with proposed activities.

b. (5 points) The extent to which the applicant describes collaborative activities or anticipated relationships with other national organizations who support model food safe schools programs, and includes letters of participation and support documenting these anticipated collaborations. The extent to which the applicant describes how the organization can compliment the activities of existing organizations and how their expertise can support this proposed project.

5. Evaluation Plan (5 Points)

The extent to which the applicant describes their plan to evaluate progress in meeting objectives and conducting activities during the budget period including their ability to describe: (a) What data will be obtained; (b) how the data will be obtained; (c) how evaluation information will be disseminated; (d) how the evaluation data will be used to improve the program; and (e) who will implement the evaluation plan and when.

6. Budget and Justification (Not Scored)

The extent to which the budget is reasonable and consistent with the purposes and activities of the program.

H. Other Requirements

Technical Reporting Requirements

Provide CDC with original plus two copies of:

1. Annual progress report.

2. Financial status report, no more than 90 days after the end of the budget period.

3. Final financial report and performance report, no more than 90 days after the end of the project period.

Send all reports to the Grants Management Specialist identified in the “Where to Obtain Additional Information” section of this announcement.

The following additional requirements are applicable to this program. For a complete description of each, see Attachment I in the application kit.

AR-7—Executive Order 12372 Review

AR-8—Public Health System Reporting Requirement

AR-9—Paperwork Reduction Act Requirements

AR-10—Smoke-Free Workplace Requirements

AR-11—Healthy People 2010

AR-12—Lobbying Restrictions

AR-14—Accounting System Requirements

AR-15—Proof of Non-Profit Status

I. Authority and Catalog of Federal Domestic Assistance Number

This program is authorized under sections 301(a), 311(b) and (c), and 317 (k)(2) [42 U.S.C. 241(a), 243(b) and (c), and 247(b)(K)(2)] of the Public Health Service Act, as amended. The Catalog of Federal Domestic Assistance number is 93.938.

J. Where To Obtain Additional Information

This and other CDC announcements can be found on the CDC home page Internet address http://www.cdc.gov Click on “Funding” then “Grants and Cooperative Agreements.”

If you have questions after reviewing the contents of all documents, business management technical assistance may be obtained from: Cynthia Collins, Grants Management Specialist, Grants Management Office, Program Announcement 01131, Centers for Disease Control and Prevention (CDC), 2920 Brandywine Rd, Rm 3000, MS E-18, Atlanta, Georgia 30341-4146, Telephone: (770) 488-2757, Email: coc9@cdc.gov.

For program technical assistance, contact: Mary Vernon Smiley, Chief, Special Populations Section, Program Development and Services Branch, Division of Adolescent and School Health, National Center for Chronic Disease Prevention and Health Promotion, Program Announcement 01131, Centers for Disease Control and Prevention, 4770 Buford Highway, NE MS K-31, Atlanta, GA 30341, Telephone: 770-488-6199, Email: mev0@cdc.gov.

Dated: May 11, 2001.
John L. Williams,
Director, Procurement and Grants Office, Centers for Disease Control and Prevention.

[FR Doc. 01-12422 Filed 5-16-01; 8:45 am]

BILLING CODE 4163-19-P